ENVIRONMENTAL PROTECTION AGENCY

[ER-FRL-9031-9]

Environmental Impact Statements; Notice of Availability

Responsible Agency: Office of Federal Activities, General Information (202) 564-7146 or http://www.epa.gov/nepa.

Weekly receipt of Environmental Impact Statements (EISs)

Filed 02/20/2017 Through 02/24/2017

Pursuant to 40 CFR 1506.9.

Notice:Section 309(a) of the Clean Air Act requires that EPA make public its comments on EISs issued by other Federal agencies. EPA's comment letters on EISs are available at: http://www.epa.gov/compliance/nepa/eisdata.html.

EIS No. 20170028, Draft, BLM, NV, Gold Bar Mine Project, Comment Period Ends: 04/17/2017, Contact: Christine Gabriel 775-635-4164

Dated: February 28, 2017.
Dawn Roberts,
Management Analyst, NEPA Compliance Division, Office of Federal Activities.

[FR Doc. 2017-04157 Filed 3-2-17; 8:45 am]

BILLING CODE 6560-50-P